CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) . This program helps to ensure that requested data can be provided in the desired format, reporting burden (time and financial resources) is minimized, collection instruments are clearly understood, and the impact of collection requirement on respondents can be properly assessed.

Currently, CNCS is soliciting comments concerning its proposed renewal of The Volunteering and Civic Life Assessment: September CPS Supplement. This is a national survey conducted by the US Census and CNCS. CNCS is directed by Congress to collect data and produce yearly reports on the Nation's civic health and volunteering activity (Section 179A of the National and Community Service Act.

Copies of the information collection request can be obtained by contacting the office listed in the Addresses section of this Notice.

DATES: Written comments must be submitted to the individual and office listed in the ADDRESSES section by April 10, 2017.

ADDRESSES: You may submit comments, identified by the title of the information collection activity, by any of the following methods:

(1) By mail sent to: Corporation for National and Community Service, Attention Anthony Nerino, Research Analyst, Rm. #3235; 250 E St. SW., Washington, DC 20525.

(2) By hand delivery or by courier to the CNCS mailroom at Rm. #4300 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Anthony Nerino, 202-606-3913, or by email at anerino@cns.gov

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The survey will be administered to a sample of U.S. citizens age 16 and older to assess the nature, extent and scope of their participation in civic activity. Approximately 60,000 households (90,000 individuals) will be enrolled in the Current Population Survey and be included in the September survey supplement. The CPS is administered monthly by the U.S. Census for the Bureau of Labor Statistics to measure employment rates and labor trends. The information will be collected in-person and via telephone survey.

Current Action

This is a new information collection request. The previous data collection process occurred yearly across two separate months and included the Volunteer Supplement in September and the Civic Health Supplement in November. In consultation with the National Academy of Science and an ad hoc group of technical advisors and stakeholders, CNCS combined the supplements and shortened the instrument by eliminating redundant questions and items of low value, and by adding relevant queries.

The information collection will be used to generate civic health reports at the National, State, and Metropolitan Statistical Area (MSA) level and to disseminate these data to various stakeholders and end users for grant writing purposes and research.

Type of Review: New.

Agency: Corporation for National and Community Service.

Title: Volunteer and Civic Life Assessment.

OMB Number: None

Agency Number: None.

Affected Public: U.S. citizens age 16 and older residing in the continental U.S. and Puerto Rico.

Total Respondents: 90,000.

Frequency: On time.

Average Time per Response: Averages 10 minutes.

Estimated Total Burden Hours: 15,000 hours.

Total Burden Cost (capital/startup): None.

Total Burden Cost (operating/maintenance): $800,000.

Comments submitted in response to this notice will be summarized and/or included in the request for Office of Management and Budget approval of the information collection request; they will also become a matter of public record.

February 2, 2017.
Mary Hyde,
Director of Research and Evaluation.

[FR Doc. 2017-02527 Filed 2-7-17; 8:45 am]

BILLING CODE 6050-28-P